DEPARTMENT OF ENERGY

Federal Energy Regulatory Commission

Combined Notice of Filings

Take notice that the Commission has received the following Natural Gas Pipeline Rate and Refund Report filings:

Filings Instituting Proceedings

Docket Numbers: RP17-187-000.

Applicants: DBM Pipeline, LLC.

Description: § 4(d) Rate Filing: Negotiated Rate Filing to be effective 12/1/2016.

Filed Date: 11/21/16.

Accession Number: 20161121-5064.

Comments Due: 5 p.m. ET 12/5/16.

Docket Numbers: RP17-188-000.

Applicants: Gas Transmission Northwest LLC.

Description: § 4(d) Rate Filing: Annual Fuel Filing 2016 to be effective 1/1/2017.

Filed Date: 11/21/16.

Accession Number: 20161121-5067.

Comments Due: 5 p.m. ET 12/5/16.

Docket Numbers: RP17-189-000.

Applicants: Transcontinental Gas Pipe Line Company,

Description: § 4(d) Rate Filing: LSS and SS-2 Tracker Effective Nov. 1 2016 (National Fuel) to be effective 11/1/2016.

Filed Date: 11/21/16.

Accession Number: 20161121-5087.

Comments Due: 5 p.m. ET 12/5/16.

Docket Numbers: RP17-190-000.

Applicants: Young Gas Storage Company, Ltd.

Description: § 4(d) Rate Filing: Annual FL&U Filing to be effective 1/1/2017.

Filed Date: 11/21/16.

Accession Number: 20161121-5088.

Comments Due: 5 p.m. ET 12/5/16.

Docket Numbers: RP17-191-000.

Applicants: KPC Pipeline, LLC.

Description: Request for Waiver of Tariff Provision Requiring the Filing of an Annual Interruptible Transportation Revenue Crediting Report of KPC Pipeline, LLC.

Filed Date: 11/21/16.

Accession Number: 20161121-5089.

Comments Due: 5 p.m. ET 12/5/16.

Docket Numbers: RP17-192-000.

Applicants: Colorado Interstate Gas Company, L.L.C.

Description: § 4(d) Rate Filing: Quarterly LUF True-up Filing to be effective 1/1/2017.

Filed Date: 11/21/16.

Accession Number: 20161121-5098.

Comments Due: 5 p.m. ET 12/5/16.

Docket Numbers: RP17-193-000.

Applicants: Mojave Pipeline Company, L.L.C.

Description: § 4(d) Rate Filing: Annual FL&U Filing and Operational Purchase and Sales Report to be effective 1/1/2017.

Filed Date: 11/21/16.

Accession Number: 20161121-5113.

Comments Due: 5 p.m. ET 12/5/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 22, 2016.
Nathaniel J. Davis, Sr.,
Deputy Secretary.

[FR Doc. 2016-28809 Filed 11-29-16; 8:45 am]

BILLING CODE 6717-01-P